DEPARTMENT OF AGRICULTURE

Animal and Plant Health Inspection Service

7 CFR Part 319

[Docket No. 97-065-2]

RIN 0579-AA93

Importation of Fuji Variety Apples From the Republic of Korea

AGENCY: Animal and Plant Health Inspection Service, USDA.

ACTION: Notice of reopening and extension of comment period.

SUMMARY: We are reopening and extending the comment period for our proposed rule that would amend the fruit and vegetable import regulations to allow Fuji variety apples grown in certified orchards within approved production areas in the Republic of Korea to be imported into the United States without treatment, under certain conditions designed to mitigate pest risk. This action will allow interested persons additional time to prepare and submit comments.

DATES: We invite you to comment on Docket No. 97-065-1. We will consider all comments that we receive by October 23, 2000.

ADDRESSES: Please send your comment and three copies to: Docket No. 97-065-1, Regulatory Analysis and Development, PPD, APHIS, Suite 3C03, 4700 River Road, Unit 118, Riverdale, MD 20737-1238. Please state that your comment refers to Docket No. 97-065-1.

You may read any comments that we receive on this docket in our reading room. The reading room is located in room 1141 of the USDA South Building, 14th Street and Independence Avenue, SW., Washington, DC. Normal reading room hours are 8 a.m. to 4:30 p.m., Monday through Friday, except holidays. To be sure someone is there to help you, please call (202) 690-2817 before coming.

APHIS documents published in the Federal Register, and related information, including the names of organizations and individuals who have commented on APHIS dockets, are available on the Internet at http://www.aphis.usda.gov/ppd/rad/webrepor.html.

FOR FURTHER INFORMATION CONTACT: Dennis J. Hannapel, Co-Director of Asia and Pacific, Phytosanitary Issues Management, PPQ, APHIS, 4700 River Road Unit 140, Riverdale, MD 20737-1236; (301) 734-4308.

SUPPLEMENTARY INFORMATION:

Background

On April 26, 2000, we published in the Federal Register (65 FR 24423-24429, Docket No. 97-065-1) a proposal to amend the regulations governing the importation of fruits and vegetables, contained in 7 CFR part 319. We proposed to allow Fuji variety apples grown in certified orchards within approved production areas in the Republic of Korea to be imported into the United States, without treatment, under conditions designed to prevent the introduction into the United States of the peach fruit moths (Carposina sasakii and C. niponensis), the yellow peach moth (Conogethes punctiferalis), the fruit tree spider mite (Tetranychus viennensis), and the kanzawa mite (T. kanzawai). The conditions to which the proposed importation of Fuji variety apples would be subject, including pest risk-reducing cultural practices, packinghouse procedures, and inspection and shipping procedures, would reduce the risk of pest introduction to an insignificant level.

Comments on the proposed rule were required to be received on or before June 26, 2000. Several commenters have requested that we extend the comment period on Docket No. 97-065-1 to allow additional time for members of the public to review the proposed rule and to submit comments. In response to these requests, we are reopening and extending the comment period on Docket No. 97-065-1 until October 23, 2000. This action will allow interested persons additional time to prepare and submit comments. Comments already received concerning the proposed importation of Fuji variety apples from the Republic of Korea will remain under consideration and need not be resubmitted.

Done in Washington, DC, this 16th day of August 2000.
Bobby R. Acord,
Acting Administrator, Animal and Plant Health Inspection Service.

[FR Doc. 00-21321 Filed 8-21-00; 8:45 am]

BILLING CODE 3410-34-U